INTERNATIONAL TRADE COMMISSION

[Investigation Nos. 701-TA-253 and 731-TA-132, 252, 271, 273, 532-534, and 536 (Fifth Review)]

Circular Welded Pipe and Tube From Brazil, India, Mexico, South Korea, Taiwan, Thailand, and Turkey

Determinations

On the basis of the record ¹ developed in the subject five-year reviews, the United States International Trade Commission (“Commission”) determines, pursuant to the Tariff Act of 1930 (“the Act”), that revocation of the countervailing duty order on circular welded pipe and tube from Turkey and the antidumping duty orders on circular welded pipe and tube from India, Mexico, South Korea, Taiwan, Thailand, and Turkey would be likely to lead to continuation or recurrence of material injury to an industry in the United States within a reasonably foreseeable time. The Commission further determines that revocation of the antidumping duty order on circular welded pipe and tube from Brazil would not be likely to lead to continuation or recurrence of material injury to an industry in the United States within a reasonably foreseeable time.²

¹ The record is defined in § 207.2(f) of the Commission's Rules of Practice and Procedure (19 CFR 207.2(f)).

² Commissioner Rhonda K. Schmidtlein determines that revocation of the countervailing duty order on circular welded pipe and tube from Turkey and the antidumping duty orders on circular welded pipe and tube from Brazil, India, Mexico, South Korea, Taiwan, Thailand, and Turkey would be likely to lead to continuation or recurrence of material injury to an industry in the United States within a reasonably foreseeable time.

Background

The Commission instituted these reviews on January 3, 2023 (88 FR 107) and determined on April 10, 2023 that it would conduct full reviews (88 FR 23687, April 18, 2023). Notice of the scheduling of the Commission's reviews and of a public hearing to be held in connection therewith was given by posting copies of the notice in the Office of the Secretary, U.S. International Trade Commission, Washington, DC, and by publishing the notice in the Federal Register on June 16, 2023 (88 FR 39475).

Since one interested party requested cancellation of the hearing in the event that no other interested party requested to appear and no other parties submitted a request to appear at the hearing, the public hearing in connection with the reviews, originally scheduled for October 26, 2023, was cancelled (88 FR 73378, October 25, 2023).

The Commission made these determinations pursuant to section 751(c) of the Act (19 U.S.C. 1675(c)). It completed and filed its determinations in these reviews on December 28, 2023. The views of the Commission are contained in USITC Publication 5481 (December 2023), entitled Circular Welded Pipe and Tube from Brazil, India, Mexico, South Korea, Taiwan, Thailand, and Turkey: Investigation Nos. 701-TA-253 and 731-TA-132, 252, 271, 273, 532-534, and 536 (Fifth Review).

By order of the Commission.
Issued: December 28, 2023.
Katherine Hiner,
Supervisory Attorney.

[FR Doc. 2023-28961 Filed 1-3-24; 8:45 am]

BILLING CODE 7020-02-P